NUCLEAR REGULATORY COMMISSION

[Docket No. 50-458; NRC-2017-0141]

Entergy Operations, Inc.; River Bend Station, Unit 1

AGENCY: Nuclear Regulatory Commission.

ACTION: Draft supplemental environmental impact statement; request for comment.

SUMMARY: The U.S. Nuclear Regulatory Commission (NRC) is issuing for public comment a draft plant-specific Supplement 58 to the Generic Environmental Impact Statement (GEIS) for License Renewal of Nuclear Plants, NUREG-1437, regarding the renewal of operating license NPF-47 for an additional 20 years of operation for River Bend Station (RBS), Unit 1. The RBS is located in West Feliciana Parish, Louisiana. Possible alternatives to the proposed action (license renewal) include no action and reasonable alternative energy sources.

DATES: Submit comments by July 23, 2018. Comments received after this date will be considered, if it is practical to do so, but the NRC staff is able to ensure consideration only for comments received on or before this date.

ADDRESSES: You may submit comments by any of the following methods:

• Federal Rulemaking website: Go to http://www.regulations.gov and search for Docket ID NRC-2017-0141. Address questions about NRC dockets to Jennifer Borges; telephone: 301 287-9127: Jennifer.Borges@nrc.gov. For technical questions, contact the individual listed in the FOR FURTHER INFORMATION CONTACT section of this document.

• Mail comments to: May Ma, Chief, Office of Administration, Mail Stop: TWFN-7-A60M, U.S. Nuclear Regulatory Commission, Washington, DC 20555-0001.

For additional direction on obtaining information and submitting comments, see “Obtaining Information and Submitting Comments” in the SUPPLEMENTARY INFORMATION section of this document.

FOR FURTHER INFORMATION CONTACT: David Drucker, Office of Nuclear Reactor Regulation, U.S. Nuclear Regulatory Commission, Washington, DC 20555-0001; telephone: 301-415-6223, email: David.Drucker@nrc.gov.

SUPPLEMENTARY INFORMATION:

I. Obtaining Information and Submitting Comments

A. Obtaining Information

Please refer to Docket ID NRC-2017-0141 when contacting the NRC about the availability of information regarding this document. You may obtain publicly-available information related to this document by any of the following methods:

• Federal Rulemaking website: Go to http://www.regulations.gov and search for Docket ID NRC-2017-0141.

• NRC's Agencywide Documents Access and Management System (ADAMS): You may access publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. The draft plant-specific Supplement 58 to the GEIS for License Renewal of Nuclear Plants, NUREG-1437, is available in ADAMS under Accession No. ML18143B736.

• NRC's PDR: You may examine and purchase copies of public documents at the NRC's PDR, Room O1-F21, One White Flint North, 11555 Rockville Pike, Rockville, Maryland 20852.

• Library: A copy of the draft plant-specific Supplement 58 to the GEIS for License Renewal of Nuclear Plants, NUREG-1437, is available at the West Feliciana Parish Library, 5114 Burnett Road, St. Francisville, Louisiana 70775.

B. Submitting Comments

Please include Docket ID NRC-2017-0141 in the subject line of your comment submission, in order to ensure that the NRC is able to make your comment submission available to the public in this docket.

The NRC cautions you not to include identifying or contact information in comment submissions that you do not want to be publicly disclosed in your comment submission. The NRC will post all comment submissions at http://www.regulations.gov as well as enter the comment submissions into ADAMS. The NRC does not routinely edit comment submissions to remove identifying or contact information.

If you are requesting or aggregating comments from other persons for submission to the NRC, you should inform those persons not to include identifying or contact information that they do not want to be publicly disclosed in their comment submission. Your request should state that the NRC does not routinely edit comment submissions to remove such information before making the comment submissions available to the public or entering the comment into ADAMS.

II. Discussion

The NRC is issuing for public comment a draft plant-specific Supplement 58 to the GEIS for license renewal of nuclear plants, NUREG-1437, regarding the renewal of operating license NPF-47 for an additional 20 years of operation for RBS. Supplement 58 to the GEIS includes the preliminary analysis that evaluates the environmental impacts of the proposed action and alternatives to the proposed action. The NRC's preliminary recommendation is that the adverse environmental impacts of license renewal for RBS are not so great that preserving the option of license renewal for energy-planning decisionmakers would be unreasonable.

Dated at Rockville, Maryland, this 1st day of June 2018.
For the Nuclear Regulatory Commission.
David M. Drucker,
Acting Chief, License Renewal Projects Branch, Division of Materials and License Renewal, Office of Nuclear Reactor Regulation.

[FR Doc. 2018-12122 Filed 6-5-18; 8:45 am]

BILLING CODE 7590-01-P